DEPARTMENT OF COMMERCE

International Trade Administration

Notice of Scope Rulings

AGENCY: Import Administration, International Trade Administration, Department of Commerce.

EFFECTIVE DATE: November 23, 2005.

SUMMARY: The Department of Commerce (the Department) hereby publishes a list of scope rulings completed between July 1, 2005, and September 30, 2005. In conjunction with this list, the Department is also publishing a list of requests for scope rulings and anticircumvention determinations pending as of September 30, 2005. We intend to publish future lists after the close of the next calendar quarter.

FOR FURTHER INFORMATION CONTACT: Alice Gibbons, AD/CVD Operations, Office 2, Import Administration, International Trade Administration, U.S. Department of Commerce, 14th Street and Constitution Avenue, NW., Washington, DC 20230; telephone: (202) 482-0498.

SUPPLEMENTARY INFORMATION:

Background

The Department's regulations provide that the Secretary will publish in the Federal Register a list of scope rulings on a quarterly basis. See 19 CFR 351.225(o). Our most recent “Notice of Scope Rulings” was published on September 20, 2005. See 70 FR 55110. The instant notice covers all scope rulings and anticircumvention determinations completed by Import Administration between July 1, 2005, and September 30, 2005, inclusive. It also lists any scope or anticircumvention inquiries pending as of September 30, 2005, as well as scope rulings inadvertently omitted from prior published lists. As described below, subsequent lists will follow after the close of each calendar quarter.

Scope Rulings Completed Between July 1, 2005 and September 30, 2005:

Malaysia

A-570-813: Polyethylene Retail Carrier Bags from Malaysia

Requestor: PAK 2000; bags with molded handles and a snapping closure are within the scope of the antidumping duty order; September 29, 2005.

People's Republic of China

A-570-502: Iron Construction Castings from the People's Republic of China

Requestor: A.Y. McDonald Mfg. Co.; iron cast bases, iron cast upper bodies, and iron cast lids are within the scope of the antidumping duty order, and meter box frames, covers, and extension rings are excluded from the scope of the antidumping duty order; September 7, 2005.

A-570-504: Petroleum Wax Candles from the People's Republic of China

Requestor: Kohl's Department Stores, Inc.; candles contained in a ceramic basket, which are in the shape of Easter eggs and painted with multiple Easter colors, are within the scope of the antidumping duty order; July 22, 2005.

A-570-504: Petroleum Wax Candles from the People's Republic of China

Requestor: Avon Products Inc.; its “Chalet” and “Cottage” shaped candles are not included within the scope of the antidumping duty order; September 27, 2005.

A-570-868: Folding Metal Tables and Chairs from the People's Republic of China

Requestor: Spencer Gifts LLC; “butterfly chairs” are excluded from the scope of the antidumping duty order; July 13, 2005.

A-570-868: Folding Metal Tables and Chairs from the People's Republic of China

Requestor: Korhani of America; the “wood-seated folding chair” is within the scope of the antidumping duty order; July 13, 2005.

A-570-886: Polyethylene Retail Carrier Bags from the People's Republic of China

Requestor: PAK 2000; bags with molded handles and a snapping closure are within the scope of the antidumping duty order; September 29, 2005.

A-570-890: Wooden Bedroom Furniture from the People's Republic of China

Requestor: Sunrise Medical Inc.; wooden bed panels and case goods are within the scope of the antidumping duty order, and certain overbed tables are excluded from the scope of the antidumping duty order; September 29, 2005.

Thailand

A-570-821: Polyethylene Retail Carrier Bags from Thailand

Requestor: PAK 2000; bags with molded handles and a snapping closure are within the scope of the antidumping duty order; September 29, 2005.

Anti-circumvention Determinations Completed Between July 1, 2005 and September 30, 2005:

None.

Anti-circumvention Inquiries Terminated Between July 1, 2005 and September 30, 2005:

None.

Scope Inquiries Terminated Between July 1, 2005 and September 30, 2005:

People's Republic of China

A-570-864: Granular Pure Magnesium from the People's Republic of China

Requestor: ESM Group Inc.; whether atomized magnesium produced in the People's Republic of China (PRC) from pure magnesium manufactured in the United States is within the scope of the antidumping duty order; terminated September 22, 2005.

A-570-894: Certain Tissue Paper Products from the People's Republic of China

Requestor: Seaman Paper Company of Massachusetts, Inc. (MA); American Crepe Corporation (PA); Eagle Tissue LLC (CT); Flower City Tissue Mills Co. (NY); Garlock Printing & Converting, Inc. (MA); Paper Service Ltd. (NH); Putney Paper Co., Ltd. (VT); and the Paper, Allied-Industrial, Chemical and Energy Workers International Union AFL-CIO, CLC; whether certain tissue paper products are within the scope of the antidumping duty order when imported as part of a kit or set of goods that includes other non-subject items; terminated July 22, 2005.

Scope Inquiries Pending as of September 30, 2005:

People's Republic of China

A-570-504: Petroleum Wax Candles from the People's Republic of China

Requestor: Eighteen Karat International Product Sourcing, Inc.; whether its 12 “orchid” candles are within the scope of the antidumping duty order; requested September 12, 2005.

A-570-803: Heavy Forged Hand Tools, Finished or Unfinished, With or Without Handles, from the People's Republic of China

Requestor: Avalanche Industries LLC; whether “Smart Splitter” is within the scope of the antidumping duty order; requested March 10, 2005; initiated May 12, 2005.

A-570-832: Pure Magnesium from the People's Republic of China

Requestor: U.S. Magnesium LLC; whether pure and alloy magnesium processed in Canada, France, or any third country and exported to the United States using pure magnesium ingots originally produced in the PRC is within the scope of the antidumping duty order; requested July 19, 2005; initiated September 2, 2005.

A-570-868: Folding Metal Tables and Chairs from the People's Republic of China

Requestor: Mac Industries (Shanghai) Co., Ltd., Jiaxing Yinmao International Treading Co., Ltd., and Fujian Zenithen Consumer Products Co., Ltd.; whether their “moon chair” is within the scope of the antidumping duty order; requested August 18, 2005.

A-570-878: Saccharin from the People's Republic of China

Requestor: PMC Specialities Group, Inc.; whether certain saccharin products originating in the PRC and further-processed in Israel are within the scope of the antidumping duty order; requested August 12, 2005.

A-570-890: Wooden Bedroom Furniture from the People's Republic of China

Requestor: Dorel Asia; whether certain infant furniture (i.e., infant (baby) changing tables, toy boxes or chests, infant (baby) armories, and toddler beds) is within the scope of the antidumping duty order; requested February 15, 2005.

A-570-890: Wooden Bedroom Furniture from the People's Republic of China

Requestor: Leggett & Platt; whether day beds are within the scope of the antidumping duty order; requested July 21, 2005.

A-570-890: Wooden Bedroom Furniture from the People's Republic of China

Requestor: LumiSource, Inc.; whether its cell phone stash chair, whale stash chair, dolphin stash chair, and stash cube are within the scope of the antidumping duty order; requested October 21, 2004.

A-570-896: Magnesium Metal from the People's Republic of China

Requestor: U.S. Magnesium LLC; whether pure and alloy magnesium processed in Canada, France, or any third country and exported to the United States using pure magnesium ingots originally produced in the PRC is within the scope of the antidumping duty order; requested July 19, 2005; initiated September 2, 2005.

Russian Federation

A-821-802: Antidumping Suspension Agreement on Uranium

Requestor: USEC, Inc. and its subsidiary, United States Enrichment Corporation; whether enriched uranium located in Kazakhstan at the time of the dissolution of the Soviet Union is within the scope of the order; requested August 6, 1999.

A-821-819: Magnesium Metal From the Russian Federation

Requestor: US Magnesium LLC; whether pure and alloy magnesium processed in Canada or France or any third country from pure magnesium originally produced in the Russian Federation and exported to the United States is within the scope of the antidumping duty order on magnesium metal from Russia; requested July 19, 2005; initiated September 2, 2005.

Vietnam

A-552-801: Certain Frozen Fish Fillets From the Socialist Republic of Vietnam

Requestor: Piazza Seafood World LLC; whether certain basa and tra fillets from Cambodia which are a product of Vietnam are excluded from the antidumping duty order; requested May 12, 2004; initiated October 22, 2004.

Anti-circumvention Inquiries Pending as of September 30, 2005:

People's Republic of China

A-570-504: Petroleum Wax Candles from the People's Republic of China

Requestor: National Candle Association; whether imports of palm and vegetable-based wax candles from the PRC can be considered later-developed merchandise which is now circumventing the antidumping duty order; requested October 8, 2004; initiated February 25, 2005.

A-570-504: Petroleum Wax Candles from the People's Republic of China

Requestor: National Candle Association; whether imports of palm and vegetable-based wax candles from the PRC can be considered a minor alteration to the subject merchandise for purposes of circumventing the antidumping duty order; requested October 12, 2004; initiated February 25, 2005.

Vietnam

A-552-801: Certain Frozen Fish Fillets From the Socialist Republic of Vietnam

Requestor: Catfish Farmers of America and certain individual U.S. catfish processors; whether imports of frozen fish fillets from Cambodia made from live fish sourced from Vietnam, and falling within the scope of the order, are circumventing the antidumping duty order; requested August 20, 2004; initiated October 22, 2004.

Scope Rulings Inadvertently Omitted from Prior Published Lists:

None.

Interested parties are invited to comment on the completeness of this list of pending scope and anti-circumvention inquiries. Any comments should be submitted to the Deputy Assistant Secretary for AD/CVD Operations, Import Administration, International Trade Administration, 14th Street and Constitution Avenue, NW., Room 1870, Washington, DC 20230.

This notice is published in accordance with 19 CFR 351.225(o) of the Department's regulations.

Dated: November 17, 2005.
Stephen J. Claeys,
Deputy Assistant Secretary for Import Administration.

[FR Doc. E5-6467 Filed 11-23-05; 8:45 am]

BILLING CODE 3510-DS-S